DEPARTMENT OF COMMERCE

International Trade Administration

[A-851-802]

Notice of Final Determination of Sales at Less Than Fair Value: Certain Small Diameter Carbon and Alloy Seamless Standard, Line, and Pressure Pipe from the Czech Republic

AGENCY: Import Administration, International Trade Administration, Department of Commerce.

ACTION: Notice of Final Determination of Sales at Less Than Fair Value.

SUMMARY: On February 4, 2000, the Department of Commerce (“the Department”) published its preliminary determination of sales at less than fair value of certain small diameter carbon and alloy seamless standard, line, and pressure pipe (“small diameter seamless pipe”) from the Czech Republic. The investigation covers Nova Hut, a.s. (“Nova Hut”). The period of investigation (“POI”) is April 1, 1998, through March 31, 1999.

Based on our analysis of comments received, we have made changes to the margin based on adverse facts available. Therefore, the final determination differs from the preliminary determination. The final dumping margin for the investigated company is listed below in the “Continuation of Suspension of Liquidation” section of this notice.

EFFECTIVE DATE: June 26, 2000.

FOR FURTHER INFORMATION CONTACT: John Brinkmann or Dennis McClure, AD/CVD Enforcement, Office 6, Group II, Import Administration, International Trade Administration, U.S. Department of Commerce, 14th Street and Constitution Avenue, NW, Washington, DC 20230; telephone: (202) 482-4126 or (202) 482-0984, respectively.

SUPPLEMENTARY INFORMATION:

The Applicable Statute and Regulations

Unless otherwise indicated, all citations to the Tariff Act of 1930, as amended (“the Act”) are references to the provisions effective January 1, 1995, the effective date of the amendments made to the Act by the Uruguay Round Agreements Act (“URAA”). In addition, unless otherwise indicated, all citations to the Department of Commerce regulations refer to the regulations codified at 19 CFR part 351 (April 1999).

Case History

Since the preliminary determination (see 65 FR 5599 (February 4, 2000) (“Preliminary Determination”)), the following events have occurred:

• On February 10, 2000, the petitioners ¹ and Nova Hut submitted ministerial error allegations regarding the Preliminary Determination. The Department accepted the clerical errors and corrected the margin calculation program where it deemed necessary and published a Notice of Amended Preliminary Determination of Sales at Less Than Fair Value: Certain Small Diameter Carbon and Alloy Seamless Standard, Line, and Pressure Pipe from the Czech Republic, 65 FR 12971 (March 10, 2000).

¹ The petitioners are Koppel Steel Corporation, Sharon Tube Company, U.S. Steel Group, Lorain Tubular Co. LLC and Vision Metals, Inc. (Gulf States Tube Division) and the United Steel Workers of America.

• On March 8, 2000, the Department issued a supplemental questionnaire to Nova Hut relating to product characteristics.

• On March 8, 2000, Nova Hut notified the Department of its withdrawal from verification.

• On March 30, 2000, the petitioners and Nova Hut submitted their case briefs.

• On April 7, 2000, the petitioners and Nova Hut submitted their rebuttal briefs.

• On April 18, 2000, the petitioners alleged that critical circumstances exist with respect to imports of small diameter seamless pipe from the Czech Republic.

• On April 28, 2000, the Department denied Nova Hut's February 15, 2000, request to rescind the investigation on small diameter seamless pipe from the Czech Republic.

• On May 18, 2000, the Department preliminarily determined that critical circumstances exist with respect to imports from the Czech Republic of small diameter seamless pipe produced by Nova Hut.²

² See Preliminary Determination of Critical Circumstances: Certain Small Diameter Carbon and Alloy Seamless Standard, Line and Pressure Pipe from the Czech Republic, 65 FR 33803 (May 25, 2000).

Analysis of Comments Received

All issues raised in the case and rebuttal briefs by parties to this investigation, as well as certain other findings by the Department which are summarized in this notice, are addressed in the “Issues and Decision Memorandum for the Final Determination in the Antidumping Duty Investigation of Certain Small Diameter Carbon and Alloy Seamless Standard, Line and Pressure Pipe from the Czech Republic—April 1, 1998, through March 31, 1999” (“Decision Memorandum”), from Holly A. Kuga, Acting Deputy Assistant Secretary, Import Administration, to Richard W. Moreland, Acting Assistant Secretary for Import Administration, dated June 19, 2000, which is hereby adopted by this notice. A list of issues which parties have raised and to which we have responded, all of which are in the Decision Memorandum, is attached to this notice as an Appendix. Parties can find a complete discussion of all issues raised in this investigation and the corresponding recommendations in this public Decision Memorandum which is on file in the Central Records Unit, Room B-099 of the main Department building (“Room B-099”).

In addition, a complete version of the Decision Memorandum can be accessed directly on the World Wide Web at www.ita.doc.gov/import_admin/records/frn. The paper copy and electronic version of the Decision Memorandum are identical in content.

Scope of Investigation

The products covered by the investigation are certain small diameter carbon and alloy seamless standard, line, and pressure pipe from the Czech Republic. For a complete description of the scope of this investigation, see the “Scope of Investigation” section of the Decision Memorandum, which is on file in Room B-099 and available on the World Wide Web at www.ita.doc.gov/import_admin/records/frn/. The scope of the investigation has been amended since the Preliminary Determination.

Changes Since the Preliminary Determination

Because Nova Hut did not allow the Department to verify its submitted data, we have determined that the use of facts available is warranted under sections 776(a)(2)(C) and (D) of the Act. Moreover, we have determined that an adverse inference is warranted under section 776(b) of the Act, given that Nova Hut's refusal to allow verification constitutes failure to cooperate in this investigation by not acting to the best of the company's ability. As adverse facts available, we have used information on the record from Nova Hut's questionnaire response. Specifically, we have selected Nova Hut's highest product-specific margin as calculated in the amended preliminary determination. See Decision Memorandum, accessible in Room B-099 and on the World Wide Web at www.ita.doc.gov/import_admin/records/frn/.

Critical Circumstances

No comments were received regarding the Department's preliminary critical circumstances determination. For the reasons given in the preliminary determination of critical circumstances, the Department continues to find that critical circumstances exist with respect to small diameter seamless pipe imported from Nova Hut, in accordance with section 733(e)(1) of the Act.

As set forth in the preliminary determination of critical circumstances, because the massive imports criterion necessary to find critical circumstances has not been met with respect to firms other than Nova Hut, the Department continues to find, for the purposes of this final determination, that critical circumstances do not exist for imports of small diameter seamless pipe for the “all others” category.

Continuation of Suspension of Liquidation

In accordance with section 735(c)(1)(B) of the Act, we are directing the Customs Service to continue to suspend the liquidation of all entries of small diameter seamless pipe from the Czech Republic produced by Nova Hut that are entered, or withdrawn from warehouse, for consumption on or after November 6, 1999, which is 90 days prior to the date of publication of the Preliminary Determination in the Federal Register. The Customs Service will also be directed to continue to suspend liquidation of all entries of small diameter seamless pipe from the Czech Republic produced by all companies not named above, that are entered, or withdrawn from warehouse, for consumption on or after February 4, 2000, the date of publication of our Preliminary Determination in the Federal Register. The Customs Service shall continue to require a cash deposit or the posting of a bond equal to the weighted-average dumping margin, as indicated in the chart below. These suspension of liquidation instructions will remain in effect until further notice.

Section 735(c)(5)(B) of the Act provides that, where the estimated weighted-averaged dumping margins established for all exporters and producers individually investigated are zero or de minimis or are determined entirely under section 776 of the Act, the Department may use any reasonable method to establish the estimated all-others rate for exporters and producers not individually investigated. Our recent practice under these circumstances has been to assign, as the “all others” rate, the simple average of the margins in the petition. See Notice of Final Determinations of Sales at Less Than Fair Value: Certain Cold-Rolled Flat-Rolled Carbon-Quality Steel Products From Argentina, Japan and Thailand, 65 FR 5520 (February 4, 2000); see also Notice of Final Determination of Sales at Less Than Fair Value: Stainless Steel Plate in Coil from Canada, 64 FR 15457 (March 31, 1999); and Notice of Final Determination of Sales at Less Than Fair Value: Stainless Steel Plate in Coil from Italy, 64 FR 15458, 15459 (March 21, 1999).

In this case, we have calculated the dumping margin for the sole Czech respondent based entirely on adverse facts available. Given the circumstances of this case, and the discretion provided by section 735(c)(5)(B) of the Act, we have selected a somewhat different methodology to establish the “all others” rate. Instead of relying on the simple average of the petition margins, we have relied on the weighted-average of the margins obtained for each product sold during the POI, by using the respondent's data. This is consistent with our methodology in a recent determination. See Notice of Final Determination of Sales at Less Than Fair Value: Certain Cold-Rolled Flat-Rolled Carbon-Quality Steel Products From Slovakia, 65 FR 34657, 34658 (May 31, 2000). The resulting margin, applicable to all other manufacturers/exporters, is 32.26 percent.

We determine that the following weighted-average dumping margins exist for April 1, 1998, through March 31, 1999:

Manufacturer/exporter | Margin (percent)
Nova Hut, a.s | 39.93
All Others | 32.26

ITC Notification

In accordance with section 735(d) of the Act, we have notified the International Trade Commission (“ITC”) of our determination. As our final determination is affirmative, the ITC will, within 45 days, determine whether these imports are materially injuring, or threaten material injury to, the U.S. industry. If the ITC determines that material injury or threat of material injury does not exist, the proceeding will be terminated and all securities posted will be refunded or canceled. If the ITC determines that such injury does exist, the Department will issue an antidumping duty order directing the Customs Service to assess antidumping duties on all imports of the subject merchandise entered, or withdrawn from warehouse, for consumption on or after the effective date of the suspension of liquidation.

This determination is issued and published pursuant to sections 735(d) and 777(i)(1) of the Act.

Dated: June 19, 2000.
Richard W. Moreland,
Acting Assistant Secretary for Import Administration

Appendix

List of Comments and Issues in the Decision Memorandum

1. Request for Rescission of Initiation

2. Facts Available

[FR Doc. 00-16101 Filed 6-23-00; 8:45 am]

BILLING CODE 3510-DS-P